DEPARTMENT OF THE INTERIOR

Fish and Wildlife Service

[FWS-R8-ES-2019-N112; FXES11140800000-190-FF08EVEN00]

Draft Habitat Conservation Plan and Draft Environmental Assessment for Oak Hills Estate, Santa Barbara County, California

AGENCY: Fish and Wildlife Service, Interior.

ACTION: Notice of availability; request for comments.

SUMMARY: We, the U.S. Fish and Wildlife Service (Service), announce the availability of a draft Habitat Conservation Plan (HCP) and associated draft environmental assessment (EA) for activities associated with an application for an incidental take permit (ITP) under the Endangered Species Act of 1973, as amended. The ITP would authorize take of listed species incidental to construction of a residential development proposed by Oak Hills Estate, LLC (applicant). The applicant developed the draft HCP as part of their application for an ITP. The Service prepared a draft EA in accordance with the National Environmental Policy Act to evaluate the potential effects to the natural and human environment resulting from issuing an ITP to the applicant. We invite public comment.

DATES: Written comments should be received on or before March 26, 2020.

ADDRESSES: Obtaining Documents: You may download a copy of the draft habitat conservation plan and draft environmental assessment at http://www.fws.gov/ventura/, or you may request copies of the documents by U.S. mail (below) or by phone (see FOR FURTHER INFORMATION CONTACT). Submitting Written Comments: Please send us your written comments using one of the following methods:

• U.S. mail: Stephen P. Henry, Field Supervisor, Ventura Fish and Wildlife Office, U.S. Fish and Wildlife Service, 2493 Portola Road, Suite B, Ventura, CA 93003.

• Email: Rachel_henry@fws.gov.

FOR FURTHER INFORMATION CONTACT: Kendra Chan, Fish and Wildlife Biologist, by phone at 805-677-3304, via the Federal Relay Service at 1-800-877-8339 for TTY assistance, or at the Ventura address (see ADDRESSES).

SUPPLEMENTARY INFORMATION: We, the U.S. Fish and Wildlife Service (Service), announce the availability of a draft habitat conservation plan (HCP) and the associated draft environmental assessment (EA) in association with an application for an incidental take permit (ITP) by Oak Hills Estate, LLC (applicant). The permit would authorize take of listed species incidental to activities associated with the construction of a residential development proposed by the applicant. The residential development consists of the construction of 29 single-family homes and the creation of one common open-space area on the 16.88-acre project site in northern Santa Barbara County, California. The applicant developed the draft HCP as part of its application for an ITP under the Endangered Species Act, as amended (ESA; 16 U.S.C. 1531 et seq.). The Service prepared a draft EA in accordance with the National Environmental Policy Act of 1969 (NEPA; 42 U.S.C. 4321 et seq.) to evaluate the potential effects to the natural and human environment resulting from issuing an ITP to the applicant. We invite public comment.

Draft Habitat Conservation Plan Covered Species

The applicant has developed a draft HCP in support of its application for an ITP that includes measures to mitigate and minimize impacts to the federally endangered El Segundo blue butterfly (Euphilotes battoides allyni), the federally threatened California red-legged frog (Rana draytonii), and designated critical habitat for the federally endangered Vandenberg monkeyflower (Diplacus vandenbergensis). The ITP would authorize take of El Segundo blue butterfly and California red-legged frog incidental to otherwise lawful activities associated with the HCP-covered activities.

Background

The Service listed the El Segundo blue butterfly as endangered on June 1, 1976 (41 FR 22041), and the California red-legged frog as threatened on May 23, 1996 (61 FR 25813). The Vandenberg monkeyflower was listed as endangered on August 26, 2014 (79 FR 25797), and critical habitat was designated on August 11, 2015 (80 FR 48141). Section 9 of the ESA and its implementing regulations as applicable to the above-referenced species prohibit the take of fish or wildlife species listed as endangered or threatened. “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. “Incidental take” is defined by the ESA as take that is incidental to, and not the purpose of, carrying out of an otherwise lawful activity. Regulations governing incidental take permits for threatened and endangered species are in the Code of Federal Regulations (CFR) at 50 CFR 17.32 and 17.22, respectively. Issuance of an incidental take permit also must not jeopardize the existence of federally listed fish, wildlife, or plant species. The permittees would receive assurances under our “No Surprises” regulations ((50 CFR 17.22(b)(5) and 17.32(b)(5)) regarding conservation activities for the El Segundo blue butterfly and California red-legged frog.

Proposed Activities

The applicant has applied for an ITP that would authorize incidental take of El Segundo blue butterfly and California red-legged frog. Take is likely to occur in association with activities necessary to construct a 16.88-acre residential development and to restore 25.41 acres of suitable habitat for the species.

The HCP includes avoidance and minimization measures for the El Segundo blue butterfly and California red-legged frog, and mitigation for unavoidable loss of suitable habitat for the El Segundo Blue butterfly, California red-legged frog, and Vandenberg monkeyflower through 7.16 acres of on-site mitigation and restoration of an 18.25-acre fallow farm field on the Burton Mesa Ecological Reserve.

Alternatives

We are considering two alternatives in the draft EA:

(1) The no action alternative, in which the Service would not issue an ITP to the applicant to exempt take incidental to the covered activities under the HCP for the Oak Hills Estate project; and

(2) The proposed action (preferred alternative), in which the Service would issue an ITP for take of El Segundo blue butterfly and California red-legged frog incidental to the Oak Hills Estate Project, as set out in the HCP.

Public Comments

If you wish to comment on the permit application, draft HCP, and associated documents, you may submit comments by one of the methods in ADDRESSES.

Before including your address, phone number, email address, or other personal identifying information in your comment, you should be aware that your entire comment, including your personal identifying information, may be made publicly available at any time. While you can ask us in your comment to withhold your personal identifying information from public view, we cannot guarantee that we will be able to do so.

Authority

We provide this notice under section 10 of the ESA (16 U.S.C. 1531 et seq.) and NEPA regulations (40 CFR 1506.6).

Stephen Henry,
Field Supervisor, Ventura Fish and Wildlife Office, Ventura, California.

[FR Doc. 2020-03667 Filed 2-24-20; 8:45 am]

BILLING CODE 4333-15-P